DEPARTMENT OF COMMERCE

Foreign-Trade Zones Board

Docket 31-2010

Foreign-Trade Zone 26 Atlanta, Georgia, Application for Subzone, Yates Bleachery Company (Textile Fabric Finishing), Flintstone, Georgia

An application has been submitted to the Foreign-Trade Zones Board (the Board) by Georgia Foreign-Trade Zone, Inc., grantee of FTZ 26, requesting special-purpose subzone status for the textile fabric finishing facility of Yates Bleachery Company (YBC) located in Flintstone, Georgia. The application was submitted pursuant to the provisions of the Foreign-Trade Zones Act, as amended (19 U.S.C. 81a-81u), and the regulations of the Board (15 CFR part 400). It was formally filed on May 3, 2010.

The proposed subzone would be comprised of YBC's plant (160 employees/254 acres) located at 503 Flintstone Road in Flintstone, Georgia. The facility is used to finish up to 200 million square yards of foreign-origin, greige fabric annually on a contract basis for the Louisville Bedding Company, which has concurrently submitted an application to the Board for subzone status for its Louisville, Kentucky facility. The application indicates that YBC would clean, bleach, wash, stretch, dry, and sanforize wide-roll (80 inches and wider), high thread count (180 threads per inch and higher) fabrics under FTZ procedures based on a tolling arrangement with Louisville Bedding Company. The finished fabric would be transferred via zone-to-zone transfer to the proposed subzone to be located at the Louisville Bedding Company facility. YBC would not process any other customer-owned fabric under FTZ procedures.

Subzone status would allow for deferral of duties on the customer-owned, foreign fabric while inventoried in the proposed subzone. Subzone status would further allow YBC to realize certain CBP-related logistical benefits. Customs duties could possibly be deferred or reduced on foreign status production equipment. The application indicates that the savings from FTZ procedures would help improve the facility's international competitiveness.

In accordance with the Board's regulations, Pierre Duy of the FTZ Staff is designated examiner to evaluate and analyze the facts and information presented in the application and case record and to report findings and recommendations to the Board.

Public comment is invited from interested parties. Submissions (original and 3 copies) shall be addressed to the Board's Executive Secretary at the following address: Office of the Executive Secretary, Room 2111, U.S. Department of Commerce, 1401 Constitution Avenue, NW, Washington, DC 20230-0002. The closing period for receipt of comments is July 9, 2010. Rebuttal comments in response to material submitted during the foregoing period may be submitted during the subsequent 15-day period to July 26, 2010.

A copy of the application will be available for public inspection at the Office of the Foreign-Trade Zones Board's Executive Secretary at the address listed above and in the “Reading Room” section of the Board's website, which is accessible via www.trade.gov/ftz. For further information, contact Pierre Duy at Pierre.Duy@trade.gov or (202) 482-1378.

Dated: May 3, 2010.
Andrew McGilvray,
Executive Secretary.

[FR Doc. 2010-10992 Filed 5-7-10; 8:45 am]

BILLING CODE 3510-DS-S